DEPARTMENT OF THE INTERIOR

Fish and Wildlife Service

Receipt of an Application for an Incidental Take Permit for the Florida Scrub-Jay Resulting From the Proposed Construction of a Single-Family Home in Charlotte County, FL

AGENCY: Fish and Wildlife Service, Interior.

ACTION: Notice.

SUMMARY: Mr. and Mrs. Glen A. Van Brunt (Applicants) request an incidental take permit (ITP) pursuant to section 10(a)(1)(B) of the Endangered Species Act of 1973 (U.S.C. 1531 et seq.), as amended (Act). The Applicants anticipate taking about 1.0 acre of occupied Florida scrub-jay (Aphelocoma coerulescens) (scrub-jay) nesting, foraging, and sheltering habitat, incidental to land clearing of their 5.5-acre lot and subsequent residential construction of a single-family home and supporting infrastructure in Charlotte County, Florida (Project).

The Applicants' Habitat Conservation Plan (HCP) describes the mitigation and minimization measures proposed to address the effects of the Project on the Florida scrub-jay. These measures are outlined in the SUPPLEMENTARY INFORMATION section below. The U.S. Fish and Wildlife Service (Service) announces the availability of the HCP and the Environmental Assessment for the ITP application. Copies of the HCP may be obtained by making a request to the Service's Southeast Regional Office (see ADDRESSES). Requests must be in writing to be processed. This notice is provided pursuant to Section 10 of the Endangered Species Act and National Environmental Policy Act (NEPA) regulations (40 CFR 1506.6).

The Service specifically requests information, views, and opinions from the public via this Notice on the Federal action. Further, the Service specifically solicits information regarding the adequacy of the HCP as measured against the Service's permit issuance criteria found in 50 CFR Parts 13 and 17.

DATES: Written comments on the ITP application, supporting documentation, EA, and HCP should be sent to the Service's Southeast Regional Office (see ADDRESSES) and should be received on or before April 25, 2005.

ADDRESSES: Persons wishing to review the application, supporting documentation, EA, and HCP may obtain a copy by writing the Service's Southeast Regional Office at the address below. Please reference permit number TE095181-0 in such requests. Documents will also be available for public inspection by appointment during normal business hours at the Southeast Regional Office, U.S. Fish and Wildlife Service, 1875 Century Boulevard, Suite 200, Atlanta, Georgia 30345 (Attn: Endangered Species Permits), or the Service's South Florida Ecological Services Office, U.S. Fish and Wildlife Service, 1339 20th Street, Vero Beach, Florida, 32960-3559 (Attn: Field Supervisor). Written data or comments concerning the application, supporting documentation, EA, or HCP should be submitted to the Southeast Regional Office. Requests for documentation must be in writing to be processed. Comments must be submitted in writing to be adequately considered in the Service's decision-making process. Please reference permit number TE095181-0 in such comments, or in requests of the documents discussed above.

FOR FURTHER INFORMATION CONTACT: Mr. David Dell, Regional HCP Coordinator, Southeast Regional Office (see ADDRESSES above), telephone: 404/679-7313, facsimile: 404/679-7081; or George Dennis, Fish and Wildlife Biologist, South Florida Ecological Services Office, Vero Beach, Florida (see ADDRESSES above), telephone: 772/562-3909, ext. 309.

SUPPLEMENTARY INFORMATION: If you wish to comment, you may submit comments by any one of several methods. You may mail comments to the Service's Southeast Regional Office (see ADDRESSES). You may also comment via the Internet to david_dell@fws.gov. Please submit comments over the Internet as an ASCII file, avoiding the use of special characters and any form of encryption. Please also include your name and return address in your Internet message. If you do not receive a confirmation from the Service that we have received your Internet message, contact us directly at either telephone number listed above (see FURTHER INFORMATION). Finally, you may hand-deliver comments to either Service office listed above (see ADDRESSES). Our practice is to make comments, including names and home addresses of respondents, available for public review during regular business hours. Individual respondents may request that we withhold their home addresses from the administrative record. We will honor such requests to the extent allowable by law. There may also be other circumstances in which we would withhold from the administrative record a respondent's identity, as allowable by law. If you wish us to withhold your name and address, you must state this prominently at the beginning of your comments. We will not, however, consider anonymous comments. We will make all submissions from organizations or businesses, and from individuals identifying themselves as representatives or officials of organizations or businesses, available for public inspection in their entirety.

The Florida scrub-jay (scrub-jay) is geographically isolated from other species of scrub-jays found in Mexico and the western United States. The scrub-jay is found exclusively in peninsular Florida and is restricted to xeric uplands (mostly consisting of oak-dominated scrub). Increasing urban and agricultural development has resulted in habitat loss and fragmentation, which has adversely affected the distribution and numbers of scrub-jays. The total estimated population is between 7,000 and 11,000 individuals. The decline in the number and distribution of scrub-jays in Florida has been exacerbated by tremendous urban growth in the past 50 years.

Xeric upland vegetative communities in southwestern Florida are restricted primarily to ancient coastal dunes which are typically much dryer and less susceptible to flooding due to their deep, well-drained soils. Historically, these areas extended in a nearly continuous, narrow band along the western mainland portions of northern Charlotte to southern Hillsborough County. However, the same physical attributes that resulted in the evolution of xeric vegetation on these sandy dunes also provided sites for both agriculture and urban development. Over the past 50 years, these ancient dunes have served as the backbone of residential and commercial growth in southwestern Florida. The Project area is under tremendous development pressure, as is much of Charlotte County. Much of the remaining scrub-jay habitat is now relatively small and isolated. What remains is largely degraded due to interruption of the natural fire regime, which is needed to maintain xeric uplands in conditions suitable for scrub-jays.

Florida scrub-jays using the Project area were documented on several occasions by researchers collecting data on scrub-jays in the subdivision and surrounding areas. Based on preliminary information, it appears that a family of scrub-jays, of up to five individuals maintains a territory that includes the Project area. It is not known whether these families of scrub-jays previously nested on the subject lot, though the birds apparently use the scrub vegetation on site for foraging and shelter. Scrub-jays using the Project site are part of a metapopulation of scrub-jays in Charlotte County that occurs east of the Peace River and Punta Gorda. The continued survival and recovery of scrub-jays in this area may be dependent on the maintenance of suitable habitat and the restoration of unsuitable habitat.

Scrub-jays in urban areas are particularly vulnerable and typically do not successfully produce young that survive to adulthood. Persistent urban growth in the Project area will likely result in further reductions in the amount of suitable habitat for scrub-jays. Increasing urban pressures are also likely to result in the continued degradation of scrub-jay habitat as exclusion of the natural fire regime slowly results in vegetative overgrowth. Thus, over the long term, scrub-jays are unlikely to persist in urban settings, and conservation efforts for this species should target acquisition and management of large parcels of land outside the direct influence of urbanization.

Construction of the Project's infrastructure and facilities will result in harm to scrub-jays, incidental to the carrying out of these otherwise lawful activities. Habitat alteration associated with the proposed residential construction will reduce the availability of nesting, foraging, and sheltering habitat for a family of scrub-jays. The Applicants propose to minimize take of scrub-jays by preserving 4.5 acres of scrub-jay habitat on their 5.5-acre lot in perpetuity. This is a 4.5:1 mitigation ratio.

The Service will evaluate the HCP and comments submitted thereon to determine whether the application meets the requirements of section 10(a) of the Act. If it is determined that those requirements are met, the ITP will be issued for incidental take of the Florida scrub-jay. We will also evaluate whether issuance of the section 10(a)(1)(B) ITP complies with section 7 of the Act by conducting an intra-Service section 7 consultation. The results of this consultation, in combination with the above findings, will be used in the final analysis to determine whether or not to issue the ITP.

Dated: February 9, 2005.
Noreen Walsh,
Acting Regional Director, Southeast Region.

[FR Doc. 05-3278 Filed 2-18-05; 8:45 am]

BILLING CODE 4310-55-P